DEPARTMENT OF ENERGY

Efficiency and Renewables Advisory Committee (ERAC); Correction

AGENCY: Office of Energy Efficiency and Renewable Energy, Department of Energy.

ACTION: Notice of open meeting; Correction.

SUMMARY: The Department of Energy (DOE), on March 15, 2012, published a notice of open meeting announcing an open meeting of the Efficiency and Renewables Advisory Committee (ERAC). The meeting date has been extended to include April 18, 2012. As a result, the language is being corrected in this notice.

Corrections

In the Federal Register of March 15, 2012, in FR DOC. 2012-6270, on page 15362, please make the following corrections:

In the DATES heading, first column, first line, before the existing text, please add “Wednesday, April 18, 2012, 1 p.m.-4:30 p.m. (EDT).

In the ADDRESSES heading, first column, second line, please remove “Room 8E-089” and add in its place “Room 1E-245 and Room 8E-089, on April 18 and April 19 respectively”.

In the SUPPLEMENTARY INFORMATION heading, Public Participation, second column, first paragraph, fifth line, correct the second sentence to read “The public comment period will take place between 2:30 p.m. and 3 p.m. on the second day of the meeting, Thursday, April 19, 2012.”

Issued in Washington, DC, on March 22, 2012.
LaTanya R. Butler,
Acting Deputy Committee Management Officer.

[FR Doc. 2012-7426 Filed 3-27-12; 8:45 am]

BILLING CODE 6450-01-P